NATIONAL AERONAUTICS AND SPACE ADMINISTRATION

[Notice 13-016]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: March 1, 2013.

FOR FURTHER INFORMATION CONTACT: Robert H. Earp, III, Patent Attorney, Glenn Research Center at Lewis Field, Code 21-14, Cleveland, OH 44135; telephone (216) 433-5754; fax (216) 433-6790.

NASA Case No.: LEW-18516-1: Hybrid Gear;

NASA Case No.: LEW-18821-1: Dopant Selective Reactive Ion Etching of Silicon Carbide;

NASA Case No.: LEW-18674-1: Polymer Electrolyte-Based Sensors;

NASA Case No.: LEW-18809-1: Sampling and Control Circuit Board for an Inertial Measurement Unit;

NASA Case No.: LEW-18732-1: System, Apparatus, and Method for Liquid Purification.

Sumara M. Thompson-King,
Deputy General Counsel.

[FR Doc. 2013-04800 Filed 2-28-13; 8:45 am]

BILLING CODE 7510-13-P